DEPARTMENT OF ENERGY

Federal Energy Regulatory Commission

[Docket Nos. PL03-3-005 and AD03-7-005]

Price Discovery in Natural Gas and Electric Markets Natural Gas Price Formation; Notice Closing Comment Period

July 7, 2004.

On June 25, 2004, the Staff of the Federal Energy Regulatory Commission, in conjunction with Staff of the Commodity Futures Trading Commission, held a technical conference to explore the adequacy of natural gas and electricity price formation, the level of reporting of energy transactions to price index developers, actions taken by price index developers to improve the information available to the market, the overall level of liquidity in wholesale natural gas and electricity markets, and the use of price indices in jurisdictional tariffs. Staff heard from speakers representing all segments of the natural gas and electricity industries and price index developers.

Any party wishing to provide additional or supplemental comments as a result of issues discussed at the conference should file such comments no later than July 16, 2004. Comments may be filed electronically via the Internet in lieu of filing by paper. See 18 CFR 385.2001(a)(l)(iii) and the instructions on the Commission's Web site at http://www.ferc.gov under the “e-Filing” link. For additional information, please contact Ted Gerarden of the Office of Market Oversight & Investigations at 202-502-6187 or by e-mail at Ted.Gerarden@ ferc.gov.

Linda Mitry,
Acting Secretary.

[FR Doc. E4-1520 Filed 7-12-04; 8:45 am]

BILLING CODE 6717-01-P